ENVIRONMENTAL PROTECTION AGENCY

[OPP-34203F; FRL-6758-2]

Chlorpyrifos; Cancellation Order

AGENCY: Environmental Protection Agency (EPA).

ACTION: Notice.

SUMMARY: This notice announces a cancellation order that was signed November 27, 2000, announcing the use deletions and cancellations as requested by the companies that hold the registrations of pesticide products containing the active ingredient chlorpyrifos and accepted by EPA, pursuant to section 6(f) of the Federal Insecticide, Fungicide, and Rodenticide Act (FIFRA). This order follows up a September 20, 2000, notice of receipt of requests for amendments to delete uses and receipt of a request for registration cancellations. In that notice, EPA indicated that it would issue an order confirming the voluntary use deletions and registration cancellations. Any distribution, sale, or use of canceled chlorpyrifos products is only permitted in accordance with the terms of the existing stocks provisions of this cancellation order.

DATES: The cancellations are effective December 1, 2000.

FOR FURTHER INFORMATION CONTACT: Tom Myers, Special Review and Reregistration Division (7508C), Office of Pesticide Programs, Environmental Protection Agency, 1200 Pennsylvania Ave., NW., Washington, DC 20460, telephone number: (703) 308-8589; fax number: (703) 308-8041; e-mail address: myers.tom@epa.gov.

SUPPLEMENTARY INFORMATION:

I. General Information

A. Does this Action Apply to Me?

This action is directed to the public in general. You may be potentially affected by this action if you manufacture, sell, distribute, or use chlorpyrifos products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information about the risk assessment for chlorpyrifos, go to the Home Page for the Office of Pesticide Programs or go directly to http://www.epa.gov/pesticides/op/chlorpyrifos.htm.

2. In person. The Agency has established an official record for this action under docket control number OPP-34203D. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

In a memorandum of agreement (Agreement) effective June 7, 2000, EPA and a number of registrants of pesticide products containing chlorpyrifos agreed to several voluntary measures that will reduce the potential exposure to children associated with chlorpyrifos containing products. Shortly thereafter, EPA and several other pesticide registrants of manufacturing-use products containing chlorpyrifos signed ancillary agreements in which the parties agreed to comply with the terms of the June 7, 2000, agreement. EPA initiated the negotiations with registrants after finding chlorpyrifos, as currently registered, was an exposure risk especially to children. As part of the Agreement, the signatory registrants that hold the pesticide registrations of manufacturing-use pesticide products containing chlorpyrifos have asked EPA to cancel their registrations for these products. In addition, these companies asked EPA to cancel or amend their registrations for end-use products containing chlorpyrifos. Pursuant to section 6(f)(1) of the Federal Insecticide, Fungicide, and Rodenticide Act (FIFRA), EPA announced the Agency's receipt of these requests from the registrants on September 20, 2000 (65 FR 56886). With respect to the registration amendments, the companies have asked EPA to amend end-use product registrations to delete the following uses: all termite control uses (these will be phased out); all residential uses (except for ant and roach baits in child resistant packaging (CRP) and fire ant mound drenches for public health purposes by licensed applicators and mosquito control for public health purposes by public health agencies); all indoor non-residential uses (except ship holds, industrial plants, manufacturing plants, food processing plants, containerized baits in CRP, and processed wood products treated during the manufacturing process at the manufacturing site or at the mill); all outdoor non-residential sites (except golf courses, road medians, industrial plant sites, fence posts, utility poles, railroad ties, landscape timbers, logs, pallets, wooden containers, poles, posts, processed wood products, manhole covers and underground utility cable and conduits; and fire ant mound drenches for public health purposes by licensed applicators and mosquito control for public health purposes by public health agencies); and use on tomatoes and post-bloom apple trees. With respect to the registration cancellations, the companies have submitted replacement applications for registration with new labeling that would also eliminate all of these uses. In addition, the companies agreed to limit the maximum chlorpyrifos end-use dilution to 0.5% active ingredient (a.i.) for termiticide uses that will be phased out, limit the maximum label application rate for outdoor non-residential use on golf courses, road medians, and industrial plant sites to 1 lb/a.i. per acre, and either classify all new/amended chlorpyrifos products (except baits in CRP) as Restricted Use or package the products in large containers, depending on the formulation type, to ensure that remaining chlorpyrifos products are not available to homeowners. In return, EPA stated that with this Agreement, it had no current intention to initiate any cancellation or suspension proceedings under section 6(b) or 6(c) of FIFRA with respect to the issues addressed in the Agreement.

On September 20, 2000, (65 FR 56886) (FRL-6743-7), EPA published in the Federal Register a notice of the Agency's receipt of amendments and cancellations for manufacturing-use products and associated end-use products for signatories of the Memorandum of Agreement that was signed on June 7, 2000 and subsequent ancillary agreements. A copy of the Memorandum of Agreement that was signed on June 7, 2000 is located in docket control number OPP-34203D.

B. Requests for Voluntary Cancellation of Manufacturing-Use Products

Pursuant to the Agreement and FIFRA section 6(f)(1)(A), the registrants have submitted requests for voluntary cancellation of registrations for their manufacturing-use products. The registrations for which cancellations were requested are identified in the following Table 1.

Table 1.—Manufacturing-Use Product Registration Cancellation Requests
Company | Reg. No. | Product
Aventis Environmental Science USA | 432-570 | Ultratec Insecticide w/ SBP-1382/Chlorpyrifos Trans. E.C. 1.6%_16%
| 432-571 | Ultratec Insecticide w/ SBP-1382/Chlorpyrifos Trans.E.C. 3.2% - 16%
| 432-615 | Ultratec Insecticide w/Chlorpyrifos Esbiothrin Trans.E.C. 2.5% -25%
| 432-649 | Ultratec Insecticide w/ SBP-1382/Chlorpyrifos Trans.E.C. 1.6% - 16%
| 432-661 | Ultratec Insecticide w/Chlorpyrifos/Esbiothrin Trans.
| 432-662 | Ultratec Insecticide w/ Chlorpyrifos Trans. Emuls. 25%
| 432-682 | Ultratec Insecticide w/Chlorpyrifos/Pyr/PBO Trans.Emuls. 1.5 - 7.5 - 15
| 432-692 | Ultratec Insecticide w/ SBP-1382/Chlorpyrifos Trans. E.C.3.2%-16% LO
| 432-718 | SBP-1382/Chlorpyrifos Trans.E.C. 3.2% - 16% LO For Pres. Spray
| 432-1019 | Niagara P-D 5 Residual Insecticide Intermediate
| 432-1095 | Pyrenone Dursban Aqueous Base
| 432-1104 | Pyrenone Dursban W-B
| 432-1106 | Pyrenone Dursban Aqueous Base II
Verdant Brands, Inc. | 769-690 | SMCP DFC-4 Formulators Concentrate
McLaughlin Gormley King Company | 1021-1215 | Pyrocide Intermediate 7129
| 1021-1220 | D-Trans Intermediate 1957
| 1021-1221 | Pyrocide Intermediate 7130
| 1021-1434 | Esbiol Intermediate 2235
| 1021-1438 | D-Trans Intermediate 2247
| 1021-1444 | Multicide Intermediate 2253
| 1021-1506 | D-Trans Intermediate 2321
| 1021-1707 | Multicide Concentrate 2748
| 1021-1717 | Multicide Intermediate 2745
Griffin LLC | 1812-429 | Questor MUP Insecticide
Cheminova, Inc. | 4787-27 | Chlorpyrifos Technical
| 4787-29 | Cyren MUC
| 4787-30 | Cyren 150 Concentrate
| 4787-32 | Cyren RT
3M Company | 10350-10 | Dursban 20 MEC
Makhteshim-Agan of North America Inc. | 11678-45 | Pyrinex Chlorpyrifos Insecticide
Platte Chemical Company | 34704-801 | Chlorpyrifos Technical
Luxembourg Industries (Pamol) Ltd. | 42519-17 | Dorsan Technical
Insecta Sales & Research, Inc. | 45600-6 | Insecta No.105
Micro-Flo Company | 51036-217 | Chlorpyrifos 61.5% MUP
Control Solutions,Inc. | 53883-34 | Martin's 6 lb. Chlorpyrifos
Dow AgroSciences LLC | 62719-15 | Dursban F Insecticidal Chemical
| 62719-44 | Dursban R
| 62719-45 | Dursban 30 SEC
| 62719-66 | Dursban HF Insecticidal Concentrate
| 62719-76 | Lentrek 6
| 62719-78 | Dursban W Insecticidal Chemical
| 62719-225 | XRM-5222
Gharda USA, Inc. | 70907-1 | Chlorpyrifos Technical
| 70907-6 | Chlorpyrifos 6 Manufacturing Concentrate
| 70907-14 | Chlorpyrifos 4 Manufacturing Concentrate

In the Federal Register notice published on September 20, 2000, EPA requested public comment on the voluntary cancellation and use deletion requests, and provided a 30-day comment period. The registrants requested that the Administrator waive the 180-day period provided under FIFRA section 6(f)(1)(C). One public comment was submitted to the docket in response to EPA's request for comments.This comment was a generic comment on the overall organophosphate process focusing on the development of a new process for review of the organophosphate pesticides that did not relate to this action specifically.

C. Requests for Voluntary Cancellation of End-Use Products

In addition to requesting voluntary cancellation of manufacturing-use products, several registrants have submitted requests for voluntary cancellation of some of their registrations for end-use pesticide products containing chlorpyrifos. The end-use registrations for which cancellation was requested are identified in the following Table 2.

Table 2.—End-Use Product Registration Cancellation Requests
Company | Reg. No. | Product
Aventis Environmental Science USA | 432-566 | SBP-1382/Chlorpyrifos Transparent Emulsion Spray 0.05% + 0.5%
| 432-567 | SBP-1382/Chlorpyrifos Transparent Emulsion Dilutable Conc. 1.6% + 16%
| 432-568 | Ultratec Insecticide w/ SBP-1382/ChlorpyTrans. EM.Dil.Conc. 3.2% + 16%
| 432-569 | SBP-1382/Chlorpyrifos Transparent Emulsion Spray 0.1 % + 0.5%
| 432-1027 | Pyrenone Dursban Roach & Ant Spray
| 432-1059 | Pyrenone Dursban Dual Use E.C.
| 432-1101 | Aqueous Residual Spray
| 432-1107 | Pyrenone Dursban Water-Based Pressurized Spray
Verdant Brands, Inc. | 769-562 | Mole Cricket Bait D
| 769-576 | Sureco Indoor Pest Control
| 769-578 | Sureco Yard and Kennel Spray Concentrate
| 769-607 | R&M Insect Spray with Resmethrin/Dursban
| 769-666 | Dursban 1E Insecticide
| 769-668 | SMCP D/V 217 Insecticide
| 769-672 | SMCP Residual Roach Spray
| 769-685 | SMCP Dursban Household Insecticide
| 769-694 | SMCP Xtraban Roach Concentrate
| 769-697 | SMCP Dursban Plus Turf Insecticide
| 769-715 | SMCP Lawn-Gard Spray
| 769-716 | SMCP Lawn and Ornamental Spray
| 769-717 | Dursban .8% Granular Insecticide
| 769-721 | SMCP Dursban Granular Insecticide
| 769-731 | SMCP Home Lawn and Ornamental Spray
| 769-735 | SMCP Dursban Cricket Bait 200
| 769-737 | SMCP Blatta-Bits Roach Bait Insecticide
| 769-738 | Frank's Finest Roach/Flea Spray
| 769-781 | AFC Residual Insect Spray
| 769-800 | Superior Dursban 4E Emulsifiable Concentrate
| 769-801 | Superior Dursban 2E
| 769-804 | Superior Delve Concentrate
| 769-826 | Sureco T.A.S.K
| 769-827 | Dursban Plus Dichlovos
| 769-828 | Dursban 1.4% G
| 769-829 | SMCP 32-4-7 Fertilizer with Dursban
| 769-831 | SMCP 40-0-0 with Dursban
| 769-873 | Dursban 135 EC
| 769-880 | Pratt Dursban 250 EC
| 769-936 | Warner Enterprises Residual Spray
| 769-952 | Dursban G5 Granular
| 769-953 | Pratt Dursban G232 Granular Lawn Insect Control for Professional Use
| 769-962 | Ulti-Mate Homeowner Pest Control Concentrate
McLaughlin Gormley King Company | 1021-1362 | Pyrocide Concentrate 7254
| 1021-1416 | Pyrocide Residual Contact Spray 7335
| 1021-1435 | Esbiol Residual Contact Spray 2236
| 1021-1439 | D-Trans Concentrate 2249
| 1021-1605 | D-Trans Residual Spray 2580
| 1021-1668 | Evercide Residual Spray 2640
| 1021-1693 | Evercide Residual Pump Spray 2641
| 1021-1716 | Multicide Pressurized Ant and Roach Spray 27451
Griffin LLC | 1812-427 | Pyrinex 4EC Insecticide
| 1812-428 | Pyrinex 2 EC Area Insecticide
| 1812-443 | Questor LO Insecticide
3M Company | 10350-12 | Duratrol Yard Spray Concentrate
Luxembourg Industries (Pamol) Ltd. | 42519-18 | Dorsan 4E-41
Micro-Flo Company | 51036-102 | Chlorpyrifos 0.5% RTU
| 51036-118 | Chlorpyrifos 4E LO Insecticide
| 51036-119 | Chlorpyrifos 1E
| 51036-223 | Chloroban 4-E
| 51036-303 | Chlorpyrifos 5.3%
Control Solutions, Inc. | 53883-36 | Martin's Surrender Chlorpyrifos TC
| 53883-37 | Martin's Chlorpyrifos 2E
| 53883-49 | Martin's Dursban 1L Lawn and Ornamental Plant Insecticide
| 53883-53 | Martin's Dursban Pest Control
| 53883-55 | Martin's Termite and Soil Insect Control
Dow AgroSciences LLC | 62719-22 | Dursban 25W
| 62719-23 | Lorsban 4E
| 62719-29 | Lorsban 1-PE
| 62719-41 | Dursban 4 Plus
| 62719-46 | Dursban WB05
| 62719-55 | Dursban LO
| 62719-56 | Dursban 1-12 Insecticide
| 62719-74 | Dursban ME
| 62719-85 | Lorsban 7.5 G
| 62719-163 | Dursban 50 DF
| 62719-197 | Dursban WB05 III
| 62719-235 | Dursban Lawn and Ornamental Insecticide
| 62719-252 | Dursban 50WSP Insecticide in Water Soluble Packets
| 62719-269 | Dursban NXS-4
| 62719-281 | Dursban NXS05
| 62719-283 | Dursban ME02 + ETOC
| 62719-284 | Dursban NXS-6
| 62719-298 | Dursban ME 1.7
Cheminova, Inc. | 67760-5 | Cyren 1E
| 67760-22 | Cheminova Chlorpyrifos 4E-AG-SG
| 67760-23 | Cyren Turf and Ornamental Insecticide
| 67760-24 | Cyren 1/2 G Granular Insecticide
| 67760-25 | Cyren 1G
| 67760-32 | Cyren 2E XL
Platte Chemical Company | 2393-245 | Hopkins Lincoln Granules
| 34704-305 | Hopkins Lincoln Granules
| 34704-413 | Dursban 1 Coated Granules
| 34704-449 | Clean Crop Chlorpyrifos 1.14G Insecticide and Fertilizer
| 34704-523 | Clean Crop Dursban Insect Spray
| 34704-526 | Pest Control for Home and Garden
| 34704-541 | Dursban 4E
| 34704-748 | Clean Crop Household Insect Spray
| 34704-765 | Clean Crop Dursban 1

In the Federal Register notice published on September 20, 2000, EPA requested public comment on the voluntary cancellation and use deletion requests, and provided a 30-day comment period. The registrants requested that the Administrator waive the 180-day period provided under FIFRA section 6(f)(1)(C).

Requests for voluntary amendments to delete uses from the registrations of end-use products. Pursuant to section 6(f)(1)(A) of FIFRA, the signatory registrants have also submitted requests to amend all of their other end-use registrations of pesticide products containing chlorpyrifos to delete the aforementioned uses. The registrations for which amendments to delete uses were requested are identified in the following Table 3.

Table 3.—End-Use Product Registration Amendment Requests
Company | Reg. No. | Product/SLNs
Verdant Brands, Inc. | 769-641 | Dursban 2E Insecticide
| 769-662 | SMCP Dursban .5% Granular Insecticide
| 769-679 | Dursban 1% Granular Insecticide
| 769-680 | Dursban Mole Cricket Bait
| 769-699 | Dursban 4E Insecticide
| 769-726 | Dursban 1G Granular Insecticide
| 769-808 | Banzol
| 769-825 | SMCP Dursban 2.5% G Insecticide
| 769-940 | Dursban Plus Insecticide
Griffin LLC | 1812-403 | Chlorfos 4E Insecticide
| 1812-404 | Chlorfos 15G
3M Company | 10350-22 | MEC Chlorpyrifos Livestock Premise Spray Concentrate
Platte Chemical Company | 34704-55 | Clean Crop Chlorpyrifos 1/2G Turf Insecticide
| 34704-65 | Chlorpyrifos 2E
| 34704-66 | Clean Crop Chlorpyrifos 4E Insecticide
| 34704-423 | Dursban 2 Coated Granules
| 34704-448 | Clean Crop Dursban 1G Insecticide
| 34704-587 | Chlorpyrifos-thiram 7.5-7.5G
| 34704-693 | Clean Crop Chlorpyrifos 50WP Seed Treater
Luxembourg Industries (Pamol) Ltd. | 42519-19 | Dorsan 4E-45
| 42519-20 | Dorsan 2E
| 42519-21 | Dorsan 4E
Insecta Sales & Research, Inc. | 45600-1 | Insecta
| 45600-11 | Insecta 1000
| 45600-17 | Insecta for Manholes
Control Solutions, Inc. | 53883-48 | Martin's Dursban Insecticide Granules
| 53883-52 | Martin's Dursban 21/2% Insecticide Granules
Micro-Flo Company | 51036-117 | Chlorpyrifos 1/2% Bait
| 51036-122 | Micro-flo Chlorpyrifos Termite Concentrate
| 51036-152 | Micro-Flo Chlorpyrifos 2E
| 51036-153 | Chlorpyrifos1% Bait
| 51036-154 | Chlorpyrifos 4-E Insecticide
| 51036-216 | Micro-Flo Chlorpyrifos 4E Wood Treatment
| 51036-220 | 1% Chlorpyrifos Granule
| 51036-247 | Chlorpyrifos 2.5% G
| 51036-259 | Chlorpyrifos 2.32 Bait
| 51036-263 | Chlorpyrifos 1/2% Granule
| 51036-264 | Chlorpyrifos 2.32% Granule
| 51036-291 | Chlorpyrifos 4 AG
| 51036-300 | Chlorpyrifos 15G
Dow AgroSciences LLC | 62719-11 | Dursban 4E Insecticide
| 62719-14 | Dursban 1/2 G Granular
| 62719-34 | Lorsban 15G
| 62719-35 | Dursban Turf Insecticide
| 62719-39 | Lorsban 50W Wettable Powder (SLNs; FL9000500, GA93000300)
| 62719-47 | Dursban TC
| 62719-54 | Dursban 1-D Insecticide
| 62719-65 | Dursban 2E
| 62719-68 | Dursban 50W
| 62719-69 | Dursban WT Insecticidal Wood Treatment
| 62719-72 | Dursban 50W in Water Soluble Packets
| 62719-77 | Lentrek 6 WT
| 62719-88 | Dursban ME20 Microencapsulated Insecticide
| 62719-89 | Dursban ME04 Microencapsulated Insecticide
| 62719-90 | Dursban ME02 Microencapsulated Insecticide
| 62719-166 | Dursban Pro
| 62719-167 | Equity
| 62719-210 | Dursban 1G Insecticide
| 62719-221 | Lorsban 50W Insecticide in Water Soluble Packets (SLNs; FL92001000, GA93000400)
| 62719-254 | Dursban 4E-N
| 62719-255 | Dursban 50W Nursery in Water Soluble Packets
| 62719-271 | Dursban 1F
| 62719-276 | Dursban 2.5G
| 62719-293 | Dursban 75WG
| 62719-295 | Lorsban 30G
| 62719-316 | Dursban Plus Fertilizer 2
Makhteshim-Agan of North America Inc. | 66222-3 | Pyrinex Chlorpyrifos 4EC
| 66222-4 | Pyrinex Chlorpyrifos Lawn Chinch Bug and Sod Webworm Control
| 66222-5 | Pyrinex Chlorpyrifos Lawn and Ornamental Insecticide w/ Dursban 2E
| 66222-6 | Pyrinex Chlorpyrifos Dursban 2E Insecticide
| 66222-17 | Pyrinex Chlorpyrifos Termiticide Concentrate
Cheminova, Inc. | 67760-6 | Cyren 2E
| 67760-7 | Cyren 4E Insecticide
| 67760-10 | Cyren TC
| 67760-31 | Cyren 2 TC
Gharda USA, Inc. | 70907-2 | Regatta 4E Chlorpyrifos Professional Insecticide
| 70907-4 | Pilot 4E Chlorpyrifos Agricultural Insecticide
| 70907-7 | Navigator 4 TC Chlorpyrifos Termite Concentrate
| 70907-8 | Pilot 50W Chlorpyrifos Agricultural Insecticide
| 70907-9 | Regatta 50W Chlorpyrifos Professional Insecticide
| 70907-13 | Navigator 4WT Chlorpyrifos Wood Treatment Concentrate

In the Federal Register notice published on September 20, 2000, EPA requested public comment on the voluntary cancellation and use deletion requests, and provided a 30-day comment period. The registrants requested that the Administrator waive the 180-day period provided under FIFRA section 6(f)(1)(C).

III. Cancellation Order

Pursuant to section 6(f) of FIFRA, EPA is approving the requested use deletions and the requested registration cancellations. Accordingly, the Agency orders that the registrations identified in Table 3 are hereby amended to delete the following uses: All post-construction termite control uses, except spot and local treatment ( use of such products for spot and local treatment will be prohibited after December 31, 2002 by product labeling); all other termite control uses, effective December 31, 2004 (unless EPA has made a decision prior to that date that preconstruction use may continue); all residential uses (except for ant and roach baits in child resistant packaging (CRP) and fire ant mound drenches for public health purposes by licensed applicators and mosquito control for public health purposes by public health agencies); all indoor non-residential, non-agricultural uses (except ship holds, industrial plants, manufacturing plants, food processing plants, containerized baits in CRP, and processed wood products treated during the manufacturing process at the manufacturing site or at the mill); all outdoor non-residential, non-agricultural sites (except golf courses, road medians, industrial plant sites, fence posts, utility poles, railroad ties, landscape timbers, logs, pallets, wooden containers, poles, posts, processed wood products, manhole covers and underground utility cable and conduits; and fire ant mound drenches for public health purposes by licensed applicators and mosquito control for public health purposes by public health agencies); and use on tomatoes and post-bloom apple trees (except for tree trunk use). The Agency also orders that the registrations identified in Tables 1 and 2 are hereby canceled. Any distribution, sale, or use of existing stocks of the products identified in Tables 1-3 in a manner inconsistent with the terms of this Order or the Existing Stock Provisions in Unit IV. of this document will be considered a violation of section 12(a)(2)(K) of FIFRA and/or section 12(a)(1)(A) of FIFRA.

IV. Existing Stocks Provisions

For purposes of this Order, the term existing stocks is defined, pursuant to EPA's existing stocks policy (56 FR 29362, June 26, 1991), as those stocks of a registered pesticide product which are currently in the United States and which have been packaged, labeled, and released for shipment prior to the effective date of the amendment or cancellation.

A. Manufacturing-Use Products

1. Distribution or sale . The distribution or sale of existing stocks of any manufacturing-use product identified in Table 1 will not be lawful under FIFRA as of December 27, 2000, except for the purposes of returns for relabeling consistent with the June 7, 2000 Memorandum of Agreement, shipping such stocks for export consistent with the requirements of section 17 of FIFRA, or for proper disposal.

2. Use for producing other manufacturing-use products. The use of existing stocks of any manufacturing-use product identified in Table 1 for formulation into any other manufacturing-use product will not be lawful under FIFRA as of December 1, 2000 unless such product bears an EPA-approved label that is consistent with the provisions of the Agreement.

3. Use for producing end-use products—(i) Restricted use and package size limitations. (a) The use of existing stocks of any manufacturing-use product identified in Table 1 for formulation into any end-use product that is an emulsifiable concentrate (EC) will not be lawful under FIFRA as of December 1, 2000, unless the end-use product is labeled for restricted use;

(b) The use of existing stocks of any manufacturing-use product identified in Table 1 for formulation into any end-use product labeled for any agricultural use (other than cattle ear tags) and that is not an EC, will not be lawful under FIFRA as of December 1, 2000, unless the product is either labeled for restricted use or packaged in containers no smaller than 15 gallons of a liquid formulation, 50 pounds of a granular formulation, or 25 pounds of any other dry formulation;

(c) The use of existing stocks of any manufacturing-use product identified in Table 1 for formulation into any end-use product labeled solely for non-agricultural uses (other than containerized baits in Child Resistant Packaging (CRP)) and that is not an EC, will not be lawful under FIFRA as of December 1, 2000, unless the product is either labeled for restricted use or packaged in containers no smaller than 15 gallons of a liquid formulation or 25 pounds of a dry formulation.

(ii) Use in products labeled for use on tomatoes or use on apple trees post bloom. The use of existing stocks of any manufacturing-use product identified in Table 1 for formulation into end-use products bearing instructions for use on tomatoes or use on apple trees following bloom (except for tree trunk use) will not be lawful under FIFRA as of December 1, 2000.

(iii) Use in products labeled for other end-uses. The use of existing stocks of any manufacturing-use product identified in Table 1 for formulation into any end-use product bearing instructions for any of the following uses will not be lawful under FIFRA after December 1, 2000:

(a) All termite control uses, unless the end-use product bears directions for use of a maximum 0.5% chlorpyrifos end-use dilution;

(b) Post-construction termite control, except for spot and local termite treatment, provided the label of the end-use product states that the product may not be used for spot and local treatment after December 31, 2002;

(c) Indoor residential, except for containerized baits in CRP;

(d) Indoor non-residential, except for containerized baits in CRP and products with formulations other than EC that bear labeling solely for one or more of the following uses: Warehouses, ship holds, railroad boxcars, industrial plants, manufacturing plants, food processing plants, or processed wood products treated during the manufacturing process at the manufacturing site or at the mill;

(e) Outdoor residential, except for products bearing labeling solely for one or more of the following public health uses: individual fire ant mound treatment by licensed applicators or mosquito control by public health agencies;

(f) Outdoor non-residential, non-agricultural except for products that bear labeling solely for one or more of the following uses: golf courses, road medians, and industrial plant sites, provided the maximum label application rate does not exceed 1lb./ai per acre; mosquito control for public health purposes by public health agencies; individual fire ant mound treatment for public health purposes by licensed applicators; and fence posts, utility poles, railroad ties, landscape timbers, logs, pallets, wooden containers, poles, posts, processed wood products, manhole covers and underground utility cable and conduits.

(iv) Final use date for any manufacturing-use product labeled for termite control. The use of existing stocks of any manufacturing-use product identified in Table 1 for formulation into any end-use product labeled for termite control will not be lawful under FIFRA after December 31, 2004, except that EPA will permit the continued use for the manufacture of end-use products labeled solely for pre-construction termite control if EPA has issued a written determination that the pre-construction use may continue consistent with the requirements of FIFRA.

4. All other use . Any use of existing stocks of a canceled manufacturing-use product identified in Table 1 that is not otherwise limited by this order may continue until such stocks are exhausted provided such use is in accordance with the existing label of that product.

B. End-Use Products

1. Distribution, sale of products bearing instructions for use on tomatoes or apple trees post bloom. The distribution or sale of existing stocks by any person of any product listed in Table 2 or 3 that bears instructions for post-bloom application to apple trees (other than tree trunk use) or use on tomatoes will not be lawful under FIFRA after December 31, 2000, except for the purposes of returns for relabeling consistent with the June 7, 2000 Memorandum of Agreement, shipping such stocks for export consistent with the requirements of section 17 of FIFRA, or proper disposal. Any use of such products for post-bloom application to apple trees (other than tree trunk use) or tomatoes will not be lawful after December 31, 2000. All other use of such products may continue until stocks are exhausted, provided such use is in accordance with the existing labeling of that product.

2. Distribution or sale by registrants of products bearing other uses— (i) Restricted use and package size limitations. Except for the purposes of returns for relabeling consistent with the June 7, 2000 Memorandum of Agreement, shipping for export consistent with the requirements of section 17 of FIFRA, or proper disposal:

(a) The distribution or sale by registrants of existing stocks of any EC formulation product listed in Table 2 or 3 that is an EC will not be lawful under FIFRA after February 1, 2001 unless the product is labeled as restricted use;

(b) The distribution or sale by registrants of existing stocks of any product listed in Table 2 or 3 labeled for any agricultural use and that is not an EC, will not be lawful under FIFRA after February 1, 2001, unless the product is either labeled for restricted use or packaged in containers no smaller than 15 gallons of a liquid formulation, 50 pounds of a granular formulation, or 25 pounds of any other dry formulation;

(c) The distribution or sale by registrants of existing stocks of any product listed in Table 2 or 3 labeled solely for non-agricultural uses (other than containerized baits in CRP) and that is not an EC, will not be lawful under FIFRA after of February 1, 2001, unless the product is either labeled for restricted use or packaged in containers no smaller than 15 gallons of a liquid formulation or 25 pounds of a dry formulation.

(ii) Prohibited uses . Except for the purposes of returns for relabeling consistent with the June 7, 2000 Memorandum of Agreement, shipping for export consistent with the requirements of section 17 of FIFRA, or proper disposal, the distribution or sale of existing stocks by registrants of any product identified in Table 2 or 3 that bears instructions for any of the following uses will not be lawful under FIFRA after February 1, 2001:

(a) Termite control, unless the product bears directions for use of a maximum 0.5% active ingredient chlorpyrifos end-use dilution;

(b) Post-construction termite control, except for spot and local termite treatment, provided the label of the product states that the product may not be used for spot and local treatment after December 31, 2002;

(c) Indoor residential except for containerized baits in CRP;

(d) Indoor non-residential except for containerized baits in CRP and products with formulations other than EC that bear labeling solely for one or more of the following uses: Warehouses, ship holds, railroad boxcars, industrial plants, manufacturing plants, food processing plants, or processed wood products treated during the manufacturing process at the manufacturing site or at the mill;

(e) Outdoor residential except for products bearing labeling solely for one or more of the following public health uses: individual fire ant mound treatment by licensed applicators or mosquito control by public health agencies;

(f) Outdoor non-residential, non-agricultural except for products that bear labeling solely for one or more of the following uses: golf courses, road medians, and industrial plant sites, provided the maximum label application rate does not exceed 1lb./ai per acre; mosquito control for public health purposes by public health agencies; individual fire ant mound treatment for public health purposes by licensed applicators; and fence posts, utility poles, railroad ties, landscape timbers, logs, pallets, wooden containers, poles, posts, processed wood products, manhole covers, and underground utility cable and conduits.

3. Retail and other distribution or sale,. The retail sale of existing stocks of products listed in Table 2 or 3 bearing instructions for the prohibited uses set forth in Unit IV.B.2.(ii)(a)-(f) of this document will not be lawful under FIFRA after December 31, 2001. Except as otherwise provided in this order, any other distribution or sale (for example, return to the manufacturer for relabeling) is permitted until stocks are exhausted.

4. Final distribution, sale and use date for preconstruction termite control. The distribution, sale or use of any product listed in Table 2 or 3 bearing instructions for pre-construction termiticide use will not be lawful under FIFRA after December 31, 2005, unless, prior to that date, EPA has issued a written determination that such use may continue consistent with the requirements of FIFRA.

5. Use of existing stocks. Except for products bearing those uses identified above in Units IV.B.1. and IV.B.4. of this document, EPA intends to permit the use of existing stocks of products listed in Table 2 or 3 until such stocks are exhausted, provided such use is in accordance with the existing labeling of that product.

List of Subjects

Environmental protection, Memorandum of Agreement, Pesticides and pests.

Dated: November 27, 2000.
Jack E. Housenger,
Acting Director, Special Review and Reregistration Division, Office of Pesticide Programs.

[FR Doc. 00-30917 Filed 12-5-00; 8:45 am]

BILLING CODE 6560-50-S